NATIONAL AERONAUTICS AND SPACE ADMINISTRATION

[Notice (01-121)]

Notice of Prospective Patent License

AGENCY: National Aeronautics and Space Administration.

ACTION: Notice of prospective patent license.

SUMMARY: NASA hereby gives notice that Ticona Polymers, Inc., of Summit, NJ 07901-3914, has applied for an exclusive license to practice the invention described and claimed in NASA Case Number LAR-16079-1, entitled “LIQUID CRYSTALLINE THERMOSETS FROM ESTER, ESTER-IMIDE, AND ESTER-AMIDE OLIGOMERS,” for which a U.S. Patent Application was filed and assigned to the United States of America as represented by the Administrator of the National Aeronautics and Space Administration. Written objections to the prospective grant of a license should be sent to Langley Research Center. This notice corrects the zip code in Notice #01-115 published in the Federal Register on October 2, 2001

DATE: Responses to this notice must be received by November 1, 2001.

FOR FURTHER INFORMATION CONTACT: Robin W. Edwards, Patent Attorney, Langley Research Center, Mail Stop 212, Hampton,VA 23681-2199. Telephone 757-864-3230; Fax 757-864-9190.

Dated: October 10, 2001.
Edward A. Frankle,
General Counsel.

[FR Doc. 01-26052 Filed 10-16-01; 8:45 am]

BILLING CODE 7510-01-P